GENERAL SERVICES ADMINISTRATION

Interagency Committee for Medical Records (ICMR); Cancellation of Medical Standard Form

AGENCY: General Services Administration.

ACTION: Notice.

SUMMARY: Because of low usage the following Standard Form is cancelled: SF 539, Medical Record—Abbreviated Medical Record.

Since the Department of Defense (DoD) is the only agency still using this form, they have created a new form—DD 2770, Abbreviated Medical Record. This form is available from the DoD's web page. Address: http://web1.whs.oad.mil/icdhome/DDEFORMS.HTM

DATE: Effective on January 26, 2000.

FOR FURTHER INFORMATION CONTACT: Ms. Barbara Williams, General Services Administration, (202) 501-0581.

Dated: January 11, 2000.
Barbara M. Williams,
Deputy Standard and Optional, Forms Management Officer.

[FR Doc. 00-1854 Filed 1-25-00; 8:45 am]

BILLING CODE 6820-34-M